ADVISORY COUNCIL ON HISTORIC PRESERVATION

Notice of Department of the Air Force Adoption of Program Comments for Cold War Era (1946-1974) Unaccompanied Personnel Housing, World War II and Cold War Era (1939-1974) Ammunition Storage Facilities from the Advisory Council on Historic Preservation, and Notice of Availability of Final Environmental Assessment and Finding of No Significant Impact

AGENCY: Advisory Council on Historic Preservation.

ACTION: Notice of Department of the Air Force Adoption of Program Comments for Cold War Era (1946-1974) Unaccompanied Personnel Housing, World War II and Cold War Era (1939-1974) Ammunition Storage Facilities from the Advisory Council on Historic Preservation, and Notice of Availability of Final Environmental Assessment and Finding of No Significant Impact.

SUMMARY: This provides notice of the Air Force's adoption of the Advisory Council on Historic Preservation's Program Comments for Cold War Era Unaccompanied Personnel Housing (1946-1974), World War II and Cold War Era (1939-1974) Ammunition Storage Facilities, and the availability of the final Environment Assessment and Finding of No Significant Impact for the actions.

DATES: This Program Comment goes into effect on May 21, 2007.

ADDRESSES: To obtain copies of the Program Comments, the final EA and signed FONSI, visit Defense Environmental Network Information eXchange (DENIX) Web site at https://www.denix.osd.mil/ProgramAlternatives. Address all comments concerning these Program Comments to David Berwick, Army Program Manager, Advisory Council on Historic Preservation, 1100 Pennsylvania Avenue, NW., Suite 803, Washington, DC 20004. Fax (202) 606-8672. dberwick@achp.gov.

FOR FURTHER INFORMATION CONTACT: Dave Berwick (202) 606-8505.

SUPPLEMENTARY INFORMATION: Section 106 of the National Historic Preservation Act requires Federal agencies to consider the effects of their undertakings on historic properties and provide the Advisory Council on Historic Preservation (ACHP) a reasonable opportunity to comment with regard to such undertakings. ACHP has issued the regulations that set forth the process through which Federal agencies comply with these duties. Those regulations are codified under 36 CFR part 800 (“Section 106 regulations”).

Under Section 800.14(e) of those regulations, agencies can request ACHP to provide a “Program Comment” on a particular category of undertakings in lieu of conducting individual reviews of each individual undertaking under such category, as set forth in 36 CFR 800.4 through 800.6. An agency can meet its Section 106 responsibilities for those undertakings by taking into account ACHP's Program Comment and by following the steps set forth in those comments.

On August 18, 2006, the Advisory Council on Historic Preservation approved and issued to the Department of Defense a Program Comment on World War II and Cold War era (1939-1974) Ammunition Storage Facilities, and a Program Comment on Cold War era (1946-1974) Unaccompanied Personnel Housing. The Program Comments pertain to all buildings and structures designed and built as ammunition storage facilities (DoD Real Property category group 42XXXX) within the years 1939-1974, and all buildings and structures that were designed and built as Unaccompanied Personnel Housing (DoD Real Property category group 72XXXX) in the years 1946-1974. The Program Comments include treatment measures for the following undertakings for these two categories of properties: ongoing operations, maintenance and repair; rehabilitation; renovation; mothballing; cessation of maintenance, new construction, demolition; deconstruction and salvage; remediation activities; and transfer, sale, lease, and closure of such facilities. The Department of the Air Force has taken into account the Advisory Council on Historic Preservation's Program Comment on World War II and Cold War era (1939-1974) Ammunition Storage Facilities, and the Program Comment on Cold War era (1946-1974) Unaccompanied Personnel Housing, and accepts and adopts these Program Comments. The Department of the Air Force ensures that the effects of these undertakings on these categories of historic properties is taken into account by execution of the steps identified as treatment measures in the Program Comments, Sections II.B. Treatment measures vary by property type. For Cold War era Unaccompanied Housing, the Department of the Air Force will prepare a supplemental context study that will be an appendix to the Army's existing study, “Unaccompanied Personnel Housing (UPH) During the Cold War (1946-1989).” For World War II and Cold War era Ammunition Storage Facilities, the Department of the Air Force will prepare a supplemental historic context study that will be an appendix to the Army's existing context study, “Army Ammunition and Explosives Storage in the United States, 1775-1945”. The Department of the Air Force will also document a representative sampling of the basic types of above-ground and earth covered ammunition storage facilities at three geographically dispersed locations that offer the greatest number and variety of resources constructed during the cold war. The Department of the Air Force will also prepare documentation of Cold War era Unaccompanied Personnel Housing at three geographically dispersed locations that offer the greatest number and variety of resources constructed during the Cold War. The full text of the Program Comments can be found on the DENIX Web site at https://www.denix.osd.mil/ProgramAlternatives.

The Department of the Air Force also announces the availability of the final Environmental Assessment (EA) and signed Finding of No Significant Impact (FONSI) for the Program Comment process. Notice of the availability of the draft EA and FONSI was published in the Federal Register on October 26, 2004, Vol. 69, No. 206, pp. 62431-62432. With the Army as lead agency, the Department of the Air Force considered all public comments received on the draft before finalizing the EA and FONSI.

Authority: 36 CFR 800.14(e)

Dated: May 16, 2007.
John M. Fowler,
Executive Director.

[FR Doc. 07-2504 Filed 5-18-07; 8:45am]

BILLING CODE 4310-K6-M